DEPARTMENT OF COMMERCE

National Oceanic and Atmospheric Administration

RIN 0648-XE660

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a five-day meeting to consider actions affecting the Gulf of Mexico fisheries in the exclusive economic zone (EEZ).

DATES: The meeting will take place on Monday, June 20 through Friday, June 24, 2016, starting at 8:30 a.m. daily.

ADDRESSES: The meeting will be held at the Hilton Clearwater Beach hotel, located at 400 Mandalay Avenue, Clearwater, FL 33767; telephone: (727) 461-3222.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, June 20, 2016; 8:30 a.m.-5:30 p.m.

The Gulf Council will begin with updates and presentations from administrative and management committees. The Data Collection Administrative Committee will discuss the Commercial Electronic Reporting Pilot Program and Timeline Update; and review recommendations for the For-Hire Electronic Reporting Program from the Technical Committee. They will also discuss the 2016 Appropriations for Gulf of Mexico Reef Fish Research. The Outreach and Education Administrative Committee will receive a report from the Outreach and Education Technical Committee's meeting. The Gulf SEDAR Administrative Committee will review the SEDAR Steering Committee Report; the Scientific and Statistical Committees (SSC) review and recommendations on Research Track; and the SEDAR Schedule Review. After lunch, the Spiny Lobster Management Committee will review the Panel Summary; receive a summary from the Joint South Atlantic and Gulf of Mexico Fishery Management Council's Spiny Lobster Advisory Panel (AP) meeting; and a summary from the Special and Standing SSC recommendations. The Shrimp Management Committee will give an overview of Modifications to the Bycatch Reduction Device (BRD) Testing Manual; review Options in Shrimp Amendment 17B Options Document; and review of the Special and Standing SSC Recommendations. The Reef Fish Management Committee will review Draft Amendment 36A: Red Snapper Individual Fishing Quota (IFQ) Modifications; Draft Amendment 46: Modify Gray Triggerfish Rebuilding Plan; and, Framework Action Options Paper: Mutton Snapper Acceptable Catch Limits (ACL) and Management Measures, and Commercial Gag Minimum Size Limit.

Tuesday, June 21, 2016; 8:30 a.m.-5:30 p.m.

The Reef Fish Management Committee will continue to review and discuss Draft Amendment 41: Red Snapper Management for Federally Permitted Charter Vessels; Draft Amendment 42: Federal Reef Fish Headboat Management. The Committee will review the Ad Hoc Reef Fish Headboat Advisory Panel Summary. The Committee will also discuss Final Action—Amendment 43: Hogfish Stock Definition, Status Determination Criteria (SDC), Annual Catch Limits (ACL) and Minimum Size Limit. The Committee will review Final Action—Amendment 45: Extend or Eliminate the Sunset Provision on Sector Separation. The Committee will discuss implementing an Ad Hoc Advisory Panel for Recreational Red Snapper Management; and review of Standing and Special SSC recommendations.

During lunch break Tuesday, June 21, 2016; 12 p.m.-1:25 p.m. the Personnel Committee will meet in Closed Session.

Wednesday, June 22, 2016; 8:30 a.m.-5 p.m.

The Joint Habitat/Coral Committee will receive and update on Gulf Activities Supported by NOAA Coral Reef Conservation Program; receive reports from the Deep-sea Coral Workshop, and 5-year Review Essential Fish Habitat Status. The Committee will receive updates on Recommended Coral Habitat Areas of Particular Concern (HAPCs) and receive an update on the Flower Garden Banks National Marine Sanctuary Draft Environmental Impact Statement. The Mackerel Management Committee will review Options Paper—CMP Amendment 29: Allocation Sharing and Accountability Measures for Gulf King Mackerel, and Options Paper—Framework Amendment 5: Modifications to Commercial King Mackerel Permit Restrictions in the Gulf.

The Full Council will convene after lunch (1:15 p.m.) with a Call to Order, Announcements and Introductions; Adoption of Agenda and Approval of Minutes; and will review Exempt Fishing Permit (EFPs) Applications, if any. The Council will receive public testimony from 1:45 p.m. until 5 p.m. on Agenda Testimony Items: Final Action—Reef Fish Amendment 43: Hogfish Stock Definition, Status Determination Criteria, Annual Catch Limit, and Minimum Size Limit; Final Action—Reef Fish Amendment 45: Extend or Eliminate the Sunset Provision; and hold an open public testimony period regarding any other fishery issues or concern. Anyone wishing to speak during public comment should sign in at the registration station located at the entrance to the meeting room.

Thursday, June 23, 2016; 8:30 a.m.-5 p.m.

The Council will receive presentations on U.S. Fish and Wildlife Foundation Restoration Activities; the Florida RESTORE Act Centers of Excellence Program; Joint Law Enforcement; Draft Gulf of Mexico Climate Science Action Plan and Draft Comment Letter and, NMFS-SERO Landing Summaries. The Council will also receive a summary from the Council Coordination Committee meeting.

The Council will receive committee reports from the Shrimp and Spiny Lobster Management Committees. After lunch, the Council will receive committee reports from the Data Collection, Outreach and Education, Joint Habitat/Coral, Reef Fish Management Committees.

Friday, June 24, 2016; 8:30 a.m.-11:30 a.m.

The Council will continue to review and discuss committee reports as follows: Mackerel, Gulf SEDAR, and Personnel Committee; and, vote on Exempted Fishing Permits (EFP) applications, if any. The Council will receive Supporting Agencies Summary Reports from the South Atlantic Council; Gulf States Marine Fisheries Commission; U.S. Coast Guard; U.S. Fish and Wildlife Service; and, the Department of State.

Lastly, Other Business, if any.

Meeting Adjourns

The timing and order in which agenda items are addressed may change as required to effectively address the issue. The latest version will be posted on the Council's file server, which can be accessed by going to the Council's Web site at http://www.gulfcouncil.org and clicking on FTP Server under Quick Links. For meeting materials, select the “Briefing Books/Briefing Book 2016-06” folder on Gulf Council file server. The username and password are both “gulfguest”. The meetings will be webcast over the Internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: May 27, 2016.
Tracey L. Thompson,
Acting Deputy Director, Office of Sustainable Fisheries, National Marine Fisheries Service.

[FR Doc. 2016-13017 Filed 6-1-16; 8:45 am]

BILLING CODE 3510-22-P